DEPARTMENT OF THE INTERIOR

National Park Service

Great Sand Dunes National Park Advisory Council Meeting

AGENCY: National Park Service, DOI.

ACTION: Announcement of meeting.

SUMMARY: Great Sand Dunes National Monument and Preserve announces the date of a meeting of the Great Sand Dunes National Park Advisory Council, which was established to provide guidance to the Secretary on long-term planning for Great Sand Dunes National Monument and Preserve.

DATES: The meeting date is:

1. Sept. 5, 2003, 1 p.m.-9 p.m., Westcliffe, Colorado.

ADDRESSES: The meeting location is:

1. Westcliffe, Colorado—All Aboard Westcliffe, Inc., 110 Rosita Ave., Westcliffe, CO 81252-1415.

FOR FURTHER INFORMATION CONTACT: Steve Chaney, 719-378-2314.

SUPPLEMENTARY INFORMATION: This notice announces the third meeting of the Great Sand Dunes National Park Advisory Council. At this meeting, the council will discuss the fundamental resources and values of Great Sand Dunes National Monument and Preserve.

John Crowley,
Acting Regional Director.

[FR Doc. 03-20751 Filed 8-13-03; 8:45 am]

BILLING CODE 4312-LL-P